DEPARTMENT OF TRANSPORTATION

Federal Aviation Administration

14 CFR Part 39

[Docket No. FAA-2010-1114; Directorate Identifier 2010-NM-206-AD]

RIN 2120-AA64

Airworthiness Directives; Fokker Services B.V. Model F.28 Mark 0100, 1000, 2000, 3000, and 4000 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

* * * * *

The proposed AD would require actions that are intended to address the unsafe condition described in the MCAI.

DATES: We must receive comments on this proposed AD by January 3, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2010-1114; Directorate Identifier 2010-NM-206-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0139, dated July 1, 2010 (referred to after this as “the MCAI”), to correct an unsafe condition for the specified products. The MCAI states:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

For the reasons described above, this [EASA] AD requires an inspection of the cam and, depending on findings, replacement with an improved part. Subsequently, this AD requires repetitive functional checks of the cam and, depending on findings, the necessary corrective actions.

The corrective action is adjusting the FCP cam until it operates correctly. You may obtain further information by examining the MCAI in the AD docket.

Relevant Service Information

Fokker Services B.V. has issued Fokker Service Bulletins SBF28-28-052, dated April 20, 2010; and SBF100-28-063, dated April 15, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 6 products of U.S. registry. We also estimate that it would take about 3 work-hours per product to comply with the basic requirements of this proposed AD. The average labor rate is $85 per work-hour. Required parts would cost about $426 per product. Where the service information lists required parts costs that are covered under warranty, we have assumed that there will be no charge for these costs. As we do not control warranty coverage for affected parties, some parties may incur costs higher than estimated here. Based on these figures, we estimate the cost of the proposed AD on U.S. operators to be $4,086, or $681 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2010-1114; Directorate Identifier 2010-NM-206-AD.

Comments Due Date

(a) We must receive comments by January 3, 2011.

Affected ADs

(b) None.

Applicability

(c) This AD applies to Fokker Services B.V. Model F28 Mark 1000, 2000, 3000, and 4000 airplanes, all serial numbers, equipped with a center wing tank (CWT); and Model F28 Mark 0100 airplanes, serial numbers 11244 through 11441; certificated in any category.

Subject

(d) Air Transport Association (ATA) of America Code 28: Fuel.

Reason

(e) The mandatory continuing airworthiness information (MCAI) states:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

Compliance

(f) You are responsible for having the actions required by this AD performed within the compliance times specified, unless the actions have already been done.

Actions

Initial Inspection and Corrective Actions

(g) Within 6 months after the effective date of this AD, inspect the FCP cam to determine the part number (P/N), in accordance with Part 1 of the Accomplishment Instructions of Fokker Service Bulletin SBF28-28-052, dated April 20, 2010 (for Model F28 Mark 1000, 2000, 3000, and 4000 airplanes); or SBF100-28-063, dated April 15, 2010 (for Model F28 Mark 0100 airplanes).

(1) If the correct part number is installed (P/N D48127-009 for Model F28 Mark 0100 airplanes and P/N A42509-089 for Model F28 Mark 1000, 2000, 3000, and 4000 airplanes), before further flight, do an inspection to verify that the cam operates correctly, in accordance with Part 1 of the Accomplishment Instructions of Fokker Service Bulletin SBF28-28-052, dated April 20, 2010 (for Model F28 Mark 1000, 2000, 3000, and 4000 airplanes); or SBF100-28-063, dated April 15, 2010 (for Model F28 Mark 0100 airplanes).

(2) If a part number other than P/N D48127-009 for Model F28 Mark 0100 airplanes and P/N A42509-089 for Model F28 Mark 1000, 2000, 3000, and 4000 airplanes is installed, within 24 months after the effective date of this AD, replace the cam with a cam having a correct part number, and do an inspection to verify that the cam operates correctly, in accordance with Part 2 of the Accomplishment Instructions of Fokker Service Bulletin SBF28-28-052, dated April 20, 2010 (for Model F28 Mark 1000, 2000, 3000, and 4000 airplanes); or SBF100-28-063, dated April 15, 2010 (for Model F28 Mark 0100 airplanes).

(3) If, during any inspection required by paragraphs (g)(1) and (g)(2) of this AD, the cam does not operate correctly, before further flight, adjust the cam until it operates correctly, in accordance with Part 2 of the Accomplishment Instructions of Fokker Service Bulletin SBF28-28-052, dated April 20, 2010 (for Model F28 Mark 1000, 2000, 3000, and 4000 airplanes); or SBF100-28-063, dated April 15, 2010 (for Model F28 Mark 0100 airplanes).

Repetitive Inspections

(h) Within 1,200 flight hours after verifying that the cam operates correctly, as required by paragraphs (g)(1) and (g)(2) of this AD, as applicable: Do an inspection to verify that the cam operates correctly and, before further flight, do all applicable corrective actions, in accordance with Part 2 of the Accomplishment Instructions of Fokker Service Bulletin SBF28-28-052, dated April 20, 2010 (for Model F28 Mark 1000, 2000, 3000, and 4000 airplanes); or SBF100-28-063, dated April 15, 2010 (for Model F28 Mark 0100 airplanes). Thereafter, repeat the inspection of the cam at intervals not to exceed 1,200 flight hours.

Parts Installation

(i) As of the effective date of this AD, no person may install an FCP access door, cam, or fueling panel on any airplane, unless the requirements of this AD have been accomplished on the cam.

FAA AD Differences

Note 1: This AD differs from the MCAI and/or service information as follows: Although paragraph (6) of the MCAI provides an option to incorporate the repetitive functional inspection into the maintenance program and then use the maintenance program as a method of complying with the repetitive inspection requirement, this AD does not include that provision.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(k) Refer to MCAI EASA Airworthiness Directive 2010-0139, dated July 1, 2010; Fokker Service Bulletin SBF28-28-052, dated April 20, 2010; and Fokker Service Bulletin SBF100-28-063, dated April 15, 2010; for related information.

Issued in Renton, Washington, on November 10, 2010.
Jeffrey E. Duven,
Acting Manager, Transport Airplane Directorate, Aircraft Certification Service.

[FR Doc. 2010-29228 Filed 11-18-10; 8:45 am]

BILLING CODE 4910-13-P